DEPARTMENT OF ENERGY

Office of Energy Efficiency and Renewable Energy

[Docket No. EERE-2012-BT-BC-0030]

Department of Energy's (DOE) Participation in Development of the International Energy Conservation Code

AGENCY: Office of Energy Efficiency and Renewable Energy, Department of Energy.

ACTION: Notice.

SUMMARY: The DOE participates in the code development process of the International Code Council (ICC), which produces the International Energy Conservation Code (IECC). DOE will continue to publish code change proposals for the IECC before submitting them to the ICC to allow interested parties an opportunity to provide suggested revisions, enhancements to and comments on DOE code change proposals. This notice outlines the process by which DOE produces code change proposals, and participates in the ICC code development process.

FOR FURTHER INFORMATION CONTACT:

Jeremiah Williams, U.S. Department of Energy, Office of Energy Efficiency and Renewable Energy, Building Technologies Office, Mailstop EE-2J, 1000 Independence Avenue SW., Washington, DC 20585-0121, Telephone: (202) 287-1941, Email: jeremiah.williams@ee.doe.gov.

Kavita Vaidyanathan, U.S. Department of Energy, Office of the General Counsel, Forrestal Building, Mailstop GC-71, 1000 Independence Ave. SW., Washington, DC 20585, Telephone: (202) 586-0669, Email: kavita.vaidyanathan@hq.doe.gov.

SUPPLEMENTARY INFORMATION:

I. Introduction

The U.S. Department of Energy (DOE) supports the International Energy Conservation Code (IECC) by participating in the code development processes administered by the International Code Council (ICC). As a participant in this process, DOE considers and evaluates concepts to be submitted as proposed changes to the IECC (“code”). This Notice outlines the process by which DOE produces code change proposals, and participates in the ICC code development process. Note that, if approved through the ICC code development process, DOE's proposed changes would be contained in the next edition of the IECC.

A. Statutory Requirements

Title III of the Energy Conservation and Production Act, as amended (ECPA), establishes requirements related to energy conservation standards for new buildings. (42 U.S.C. 6831-6837). Section 307 (b) of ECPA directs DOE to support voluntary building energy codes by periodically reviewing the technical and economic basis of the voluntary building codes, recommending amendments to such codes, seeking adoption of all technologically feasible and economically justified energy efficiency measures, and otherwise participate in any industry process for review and modification of such codes. (42 U.S.C. 6836(b))

B. Background

The IECC serves as a model building energy code and is adopted by many U.S. states, territories, the District of Columbia, and localities across the nation. Development of the IECC is administered by the ICC, with revisions taking place every three years under the ICC governmental consensus process. Any party can propose changes to the IECC with proposed code changes subject to the bylaws, policies and procedures as defined by the ICC.¹

¹ See http://www.iccsafe.org/cs/codes/pages/default.aspx.

II. DOE's Participation in the ICC Code Development Process

As described above, under ECPA, one of the methods by which DOE supports the upgrade of voluntary building energy codes is through participation in the IECC development process. DOE participates in the ICC code development process by:

1. Developing code change proposals for submission to the ICC;

2. Gathering public input on DOE code change proposals from interested parties prior to submitting them to ICC;

3. Conducting necessary technical analyses to document the validity of DOE code change proposals; and

4. Participating in the ICC code development hearings.

DOE Proposal Development

DOE seeks to advance energy efficiency in the IECC by strengthening the code where cost-effective, and improving the criteria to be more easily understood, applied, implemented and enforced. Prior to submitting code change proposals to the ICC, DOE has and will continue to publish code change proposals that it has developed, along with documentation of concepts, for public review and comment at: http://www.energycodes.gov/development. This represents an opportunity for parties to provide information they wish DOE to be aware of during the evaluation of proposals for the IECC. Following the opportunity for public review and comment DOE will not provide responses to individual comments, but will consider any and all comments timely submitted in developing final code change proposals. Final proposals will be posted at the same web address for public viewing prior to submitting to the ICC.

DOE Technical Analysis

In developing concepts for submission to the ICC, DOE conducts a series of analyses to evaluate energy savings and economic impacts of potential code change proposals. As this analysis is completed, resources have been and will be published online, including: the DOE residential cost-effectiveness methodology, energy and economic assumptions, energy simulation models, investigations into special topic areas, and draft proposal language. Any interested party wishing to review or build-upon the DOE analysis can access it via the DOE Building Energy Codes Web site.²

² See http://www.energycodes.gov/development.

DOE references all analysis and supporting documentation as required by the ICC. Analysis performed by DOE or its contractors for the purpose of developing code change proposals should be considered on a technical basis, and does not represent an endorsement of any particular individual or organization. For the purposes of IECC development, DOE conducts analysis to support its code change proposals. DOE may indicate whether its technical analysis is relevant to a proposal presented by another entity (i.e., whether various proposals are the same). Again, however, such an indication would not constitute an endorsement of a proposal.

DOE is not able to provide technical assistance at the request of outside parties, but reserves the right to conduct analysis in support of proposals DOE is considering for submission to the ICC. While DOE cannot enter into joint code change proposals (outside of proposals submitted jointly with another federal agency), DOE intends to support efficiency concepts from the perspective of its own analysis. DOE also publishes the results of its analysis, along with supporting energy simulation models, for review and use by outside parties.

DOE's Participation in the ICC Code Development Hearings

At ICC hearings, DOE will communicate its opinion on proposals as follows: DOE will defend its proposals. To the extent that DOE has prepared a technical analysis of a proposal other than a DOE proposal, consistent with the discussion above, DOE may present the results of the analysis. Again, presentation of technical reviews does not constitute an endorsement of any proposal. DOE may also recognize a proposal to the extent that the proposal or provisions within the proposal are the same as a DOE proposal or provisions within a DOE proposal. DOE may alter its proposal based on information it obtains at the code hearings but, will not seek further comment before altering its proposal.

DOE anticipates that it or its contractors may be contacted regarding code concepts, ideas or change proposals prior to the code hearing and during the code hearing. While DOE code change proposals to the IECC are not regulations, DOE will follow ex parte communication policy for such communications. Guidance on ex parte communications was published on January 21, 2009 (74 FR 4685) and can be found at http://energy.gov/gc/downloads/guidance-ex-parte-communications. Note that such communications will be reflected in the public docket consistent with the ex parte guidance.

DOE maintains an organizational membership with the ICC. As an ICC governmental member, DOE will exercise voting privileges as defined by the guiding ICC rules and procedures.

III. DOE Participation in the Development of the 2015 IECC

DOE Proposal Development

In the current code cycle, the ICC will be considering proposed revisions to the 2012 IECC which will result in the 2015 IECC. Initial concepts DOE considered for the 2015 IECC were provided for public review and comment in October 2012 (public comments received are available at http://www.regulations.gov/#!docketDetail;D=EERE-2012-BT-BC-0030). DOE then revised its proposals based on stakeholder feedback, and submitted final proposals to the ICC by the January 3, 2013 deadline. DOE's final proposals are available at http://www.energycodes.gov/development.

DOE Technical Analysis

In developing proposed revisions for the 2012 IECC, DOE conducted a series of analyses to evaluate energy savings and economic impacts of potential code change proposals. Final DOE code change proposals are published online along with supporting resources, including the DOE residential cost-effectiveness methodology, energy and economic assumptions, energy simulation models, and investigations into special topic areas. Any interested party wishing to review or build-upon the DOE analysis can access it via the DOE Building Energy Codes Web site.³

³ See http://www.energycodes.gov/development.

DOE's Participation in the ICC Code Development Hearings

At ICC hearings, DOE will communicate its opinion on proposals as follows: DOE will defend its proposals. To the extent that DOE has prepared a technical analysis of a proposal other than a DOE proposal, consistent with the discussion above, DOE may present it results of the analysis. Again, presentation of technical reviews does not constitute an endorsement of any proposal.

DOE may also recognize a proposal to the extent that the proposal or provisions within the proposal are the same as a DOE proposal or provisions within a DOE proposal. DOE may alter its proposal based on information it obtains at the code hearings but, will not seek further comment before altering its proposal.

As indicated above, DOE will follow DOE's ex parte communication policy for such communications. Note that such communications will be reflected in the public docket consistent with the ex parte guidance.

Issued in Washington, DC, on April 15, 2013.
Roland Risser,
Director, Building Technologies Office, Energy Efficiency and Renewable Energy.

[FR Doc. 2013-09236 Filed 4-18-13; 8:45 am]

BILLING CODE 6450-01-P